DEPARTMENT OF THE INTERIOR

Bureau of Land Management

[WY-957-05 1910-BJ-5RK4]

Notice of Filing of Plats of Survey, Wyoming

AGENCY: Bureau of Land Management, Interior.

SUMMARY: The Bureau of Land Management (BLM) is scheduled to the plats of surveys of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and are necessary for the managements. The lands surveyed are:

The plat and field notes representing the dependent resurvey of a portion of the south boundary, a portion of the subdivisional lines, the subdivision of certain sections, the survey of a portion of the present right bank of the Wind River, and the metes and bounds Survey of Parcel A, section 33, Township 4 North, Range 3 West, Wind River Meridian, Wyoming, was accepted September 29, 2005.

Copies of the preceding described plat and field notes are available to the public at a cost of $1.10 per page.

Dated: October 4, 2005.
John P. Lee,
Chief Cadastral Surveyor, Division of Support Services.

[FR Doc. 05-20383 Filed 10-11-05; 8:45 am]

BILLING CODE 4310-22-P